DEPARTMENT OF LABOR

Office of the Secretary

Presidential Task Force on Employment of Adults With Disabilities; Notice of Open Meeting

Background and Authority

The Presidential Task Force on Employment of Adults with Disabilities (Task Force) was established by Executive Order 13078. The primary purpose of the Task Force is “* * * to create a coordinated and aggressive national policy to bring adults with disabilities into gainful employment at a rate that is as close as possible to that of the general adult population.”

Task Force membership includes the following Executive Branch positions: Secretary of Labor; Secretary of Education, Secretary of Veterans Affairs; Secretary of Health and Human Services; Commissioner of the Social Security Administration; Secretary of the Treasury; Secretary of Commerce; Secretary of Transportation; Secretary of Housing and Urban Development, Secretary of the Interior, Secretary of Agriculture, the Attorney General of the United States; Director of the Office of Personnel Management; Administrator of the Small Business Administration; Chair of the Equal Employment Opportunity Commission; Chair of the Federal Communications Commission; and Chair of the National Council on Disability. The Secretary of Labor has been designated as Task Force Chair.

Notice of Meeting Including Specifications as to Time and Place

An open meeting of the Task Force will take place on Monday, January 28, 2002 from 9 a.m. to 12 noon at the U. S. Chamber of Commerce, 1615 H Street, NW., Washington, DC 20062.

Agenda Items

This being the first Task Force meeting since the introduction of the President's New Freedom Initiative, the agenda will include: (1) Reports on the implementation of the President's New Freedom Initiative to date, (2) discussion of the interagency coordination needed to expand upon the New Freedom Initiative, (3) future actions departments or agencies will undertake to further the goals of the New Freedom Initiative, and (4) a demonstration of assistive technology products.

Special Accommodations

Any individuals wishing to attend the Task Force meeting who need special accommodations or require further information should contact Mr. Paul Bennett at 202/693-4939 (voice), 202/693-4929 (fax), or 202/693-4920 (TTY) by Friday, January 18, 2001.

Signed in Washington, DC, this 7th day of December, 2001.
William R. McKinnon,
Acting Executive Director, Presidential Task Force on Employment of Adults with Disabilities.

[FR Doc. 01-30986 Filed 12-14-01; 8:45 am]

BILLING CODE 4510-23-P